DEPARTMENT OF ENERGY

Notice of Intent To Prepare an Environmental Impact Statement for Implementation of the FutureGen Project

AGENCY: Department of Energy.

ACTION: Notice of Intent to Prepare an Environmental Impact Statement.

SUMMARY: The U.S. Department of Energy (DOE) announces its intent to prepare an Environmental Impact Statement (EIS) pursuant to the National Environmental Policy Act (NEPA), the Council on Environmental Quality (CEQ) NEPA regulations (40 CFR parts 1500-1508), and the DOE NEPA implementing procedures (10 CFR part 1021), to assess the potential environmental impacts for the proposed action of providing Federal funding (up to $700 million) for the FutureGen Project. The FutureGen Project would comprise the planning, design, construction and operation by a private-sector organization of a coal-fueled electric power and hydrogen gas (H2) production plant integrated with carbon dioxide (CO2) capture and geologic sequestration of the captured gas. Following an evaluation of 12 site proposals from seven states, DOE identified four sites as reasonable alternatives: (1) Mattoon, Illinois; (2) Tuscola, Illinois; (3) Jewett, Texas; and (4) Odessa, Texas. DOE has prepared this Notice of Intent (NOI) to inform interested parties of the pending EIS and to invite public comments on the proposed action, including: (1) The proposed plans for implementing the FutureGen Project, (2) the range of environmental issues and alternatives to be analyzed, and (3) the nature of the impact analyses to be considered in the EIS. A general overview of the proposed action was published on February 16, 2006, in an Advance Notice of Intent (71 FR 8283).

DOE has signed a Cooperative Agreement that provides financial assistance to the FutureGen Industrial Alliance, Inc. (Alliance) for implementing the FutureGen Project. The Alliance is a non-profit industrial consortium led by the coal-fueled electric power industry and the coal production industry. Along with planning, designing, constructing and operating the FutureGen power plant and the sequestration facility, the Alliance would also monitor, measure, and verify geologic sequestration of CO2.

The FutureGen Project aims to establish the technical and economic feasibility of co-producing electricity and H2 from coal while capturing and sequestering the CO2 generated in the process. FutureGen would employ integrated gasification combined-cycle (IGCC) power plant technology that for the first time would be integrated with CO2 capture and geologic sequestration.

DOE is providing technical and programmatic guidance to the Alliance, retains certain review and approval rights as defined in the Cooperative Agreement, and oversees Alliance activities for compliance with the terms of the Cooperative Agreement. DOE is responsible for NEPA compliance activities. Both DOE and the Alliance encourage state and local agencies, local communities, the environmental community, international stakeholders, and research organizations to participate in the FutureGen Project through the NEPA process.

Potential environmental impacts of each of the four alternatives will be analyzed in detail in the EIS. Reasonable power plant technologies and component configurations proposed by the Alliance will be used in the evaluation. In addition, DOE will consider potential mitigation opportunities in the EIS.

DATES: To ensure that all of the issues related to this proposal are addressed, DOE invites comments on the proposed scope and content of the EIS from all interested parties. Comments must be received by September 13, 2006, to ensure consideration. Late comments will be considered to the extent practicable. In addition to receiving comments in writing and by telephone [See ADDRESSES below], DOE will conduct public scoping meetings in which government agencies, private-sector organizations, and the general public are invited to present oral comments or suggestions with regard to the alternatives and impacts to be considered in the EIS. Scoping meetings will be held during August 2006 near each proposed project site, at locations and on dates to be announced in a future Federal Register notice and in local newspapers. Oral comments will be heard during the scoping meetings beginning at 7 p.m. (See Public Scoping Process). The public will be invited to an informal session of the scoping meetings at the same locations beginning at 4 p.m. to learn more about the proposed action. Various displays and other information about the proposed action will be available, and DOE personnel will be present at the informal session to discuss the FutureGen Project and the EIS process.

ADDRESSES: Comments on the proposed scope of the EIS and requests for copies of the Draft EIS may be submitted by fax (304-285-4403), e-mail (FutureGen.EIS@netl.doe.gov), or a letter addressed to the NEPA Document Manager for the FutureGen Project: Mr. Mark L. McKoy, National Energy Technology Laboratory, U.S. Department of Energy, P.O. Box 880, Morgantown, WV 26507-0880, Attn: FutureGen Project EIS.

Comments or requests to participate in the public scoping process also can be submitted by contacting Mr. Mark L. McKoy directly at telephone 304-285-4426; toll free number 1-800-432-8330 (extension 4426); fax 304-285-4403; or e-mail FutureGen.EIS@netl.doe.gov.

FOR FURTHER INFORMATION CONTACT: To obtain additional information about this project, contact Mr. Mark L. McKoy by the means provided above. For general information on the DOE NEPA process, please contact: Ms. Carol M. Borgstrom, Director, Office of NEPA Policy and Compliance (EH-42), U.S. Department of Energy, 1000 Independence Avenue, SW., Washington, DC 20585-0119. Telephone: 202-586-4600. Facsimile: 202-586-7031. Or leave a toll-free message at 1-800-472-2756.

SUPPLEMENTARY INFORMATION:

Background

President Bush proposed on February 27, 2003, that the United States undertake a $1 billion, 10-year project to build the world's first coal-fueled plant to produce electricity and H2 with near-zero emissions. In response to this announcement, the DOE developed plans for the FutureGen Project, which would establish the technical and economic feasibility of producing electricity and H2 from coal—a low-cost and abundant energy resource—while capturing and geologically storing the CO2 generated in the process.

DOE would implement the FutureGen Project through a Cooperative Agreement that provides financial assistance to the FutureGen Industrial Alliance, Inc., a non-profit corporation that represents a global coalition of coal and energy companies. Members of the Alliance would be expected to provide an estimated $250 million to help fund Project development. The Alliance members are: American Electric Power Company, Inc. (Columbus, Ohio); Anglo American, LLC (London, UK); BHP Billiton Limited (Melbourne, Australia); China Huaneng Group (Beijing, China); CONSOL Energy, Inc. (Pittsburgh, Pennsylvania); Foundation Coal Holdings, Inc. (Linthicum Heights, Maryland); Kennecott Energy (now: Rio Tinto Energy America based in Gillette, Wyoming); Peabody Energy Corporation (St. Louis, Missouri); PPL Corporation (Allentown, Pennsylvania); and Southern Company (Atlanta, Georgia). The U.S. government would invest about $700 million in the FutureGen Project, with up to $80 million of that money coming from foreign governments. Several foreign governments have recently entered into discussions with DOE regarding possible contributions.

Purpose and Need for Agency Action

In pursuing the United States' goal of providing safe, affordable and clean energy for its citizens, coal must play an important role in the Nation's energy mix. A key obstacle, however, is the fact that combustion of fossil fuels leads to increased concentrations of CO2 and other greenhouse gases in the atmosphere. Combined, the electricity and transportation sectors are responsible for nearly three-fourths of the country's man-made greenhouse gas emissions. Because power plants are stationary sources, it is more feasible to capture these emissions and sequester them than it would be to capture greenhouse gas emissions from mobile sources, such as automobiles.

To this end, DOE has identified a need for a near-zero emissions, coal-to-energy option that would produce electric power and H2 from coal while permanently sequestering CO2 in deep geological formations. The technical, economic, and environmental feasibility of producing electric power and hydrogen from coal, when coupled with sequestration technology, must be proven. In the absence of proven operations of a large, integrated, near-zero emissions power plant, the contribution of coal to the nation's energy mix could be reduced, particularly if environmental regulations continue to tighten, thereby potentially increasing use of non-domestic energy resources, and impacting energy security.

Proposed Action

DOE proposes to provide financial assistance (up to $700 million) for the Alliance to implement the FutureGen Project. The Alliance would plan, design, construct, and operate the FutureGen Project, an advanced integrated coal gasification combined cycle power and hydrogen gas production plant and CO2 sequestration facility sized nominally at 275 MW (equivalent output), and appurtenant facilities (electrical transmission line connector, new pipelines and compressor stations to convey CO2, injection wells, and monitoring wells). The goal of this initiative would be to prove the technical and economic feasibility of a near-zero emissions, coal-to-energy plant that could be commercially deployed by 2020. During the first phase of the FutureGen Project, the Alliance and DOE would quantify the specific emissions objectives. The FutureGen Project would co-produce electric power and H2 in an industrial/utility setting while capturing and geologically sequestering approximately one to two million metric tons of CO2 per year. The FutureGen Project would be a prototype facility that would facilitate large-scale integrated testing of development-stage technologies and could also provide a test platform for cutting-edge research on technologies that support the goal of near-zero emissions.

The FutureGen Project would proceed through 2018 with design, construction, operation, and monitoring. Performance and economic tests results would be shared among all participants, industry, the environmental community, and the public. DOE intends to invite participation from international organizations to maximize the global applicability and acceptance of FutureGen's results, helping to support an international consensus on the role of coal and geological sequestration in addressing global greenhouse gas emissions and energy security.

FutureGen Project Processes

The FutureGen Project would employ advanced coal gasification technology integrated with combined cycle electricity generation, H2 production, CO2 capture, and sequestration of the captured gas in geologic repositories. The gasification process would combine coal, oxygen (O2), and steam to produce a H2-rich “synthesis gas.” After exiting the conversion reactor, the composition of the synthesis gas would be “shifted” to produce additional H2. The product stream would consist mostly of H2, steam, and CO2. Following separation of these three gas components, the H2 would be used to generate electricity in a gas turbine and/or fuel cell. Some of the H2 could be used as a feedstock for chemical plants or petroleum refineries or as a transportation fuel. Steam from the process could be condensed, treated, and recycled into the gasifier or added to the plant's cooling water circuit. CO2 from the process would be sequestered in deep underground geologic formations that would be monitored to verify the permanence of CO2 storage.

Technology Alternatives

The FutureGen Project would incorporate cutting-edge and emerging technologies ready for full-scale or sub-scale testing in a power plant setting prior to their commercial deployment. Identification of technology alternatives is currently in progress for key components of the FutureGen facility, involving gasification, O2 production, H2 production, synthesis gas cleanup, H2 turbines, fuel cells and fuel cell/turbine hybrids, CO2 sequestration, advanced materials, instrumentation, sensors and controls, and byproduct utilization. Decisions on incorporation of specific technologies would be made by the Alliance consistent with the overall project goal of proving the technical and economic feasibility of the near-zero emissions concept.

In identifying technology alternatives, the FutureGen Alliance started with a list of major components and subsystems of the power plant facility and created a matrix of potential configurations of equipment. Following presentations by various technology vendors and with assistance from numerous power plant experts, the matrix of potential configurations has been gradually reduced to three configurations, which will undergo more detailed cost and project risk analysis. Ultimately, the Alliance will identify the specific technology alternatives that would be most appropriate for the FutureGen Project. The goal of this process is to arrive at an initial conceptual design, which also will provide reference information to be used in the EIS impact analyses.

It is expected that sequestration would be accomplished using existing state-of-the-art technologies for both transmission and injection of the CO2 stream. Various technologies will be considered for monitoring at the injection sites.

Alternatives, Including the Proposed Action

NEPA requires that agencies evaluate the reasonable alternatives to the proposed action in an EIS. The purpose of the agency action determines the range of reasonable alternatives. In this case, DOE proposes to provide financial assistance to the Alliance to build the first ever coal-fueled plant to produce electricity and H2 with near-zero emissions. DOE believes the utility and coal industries should lead the project since they have significant interest in the success of near-zero emissions technology.

The EIS will analyze reasonable alternative sites for the FutureGen Project. These sites have been identified through a process that started with a solicitation by the Alliance for proposals. Twelve proposals were submitted by state and local organizations, representing sites in seven states (Illinois, Kentucky, North Dakota, Ohio, Texas, West Virginia, and Wyoming). The Alliance, working through various technical experts, first applied qualifying criteria that eliminated four sites and then subjected the remaining site proposals to scoring criteria. Along with the scoring criteria, best value criteria were applied in the final step of determining which sites are reasonable from a technical, environmental and economic perspective. At the conclusion of the review of proposals, the Alliance provided DOE with a report that describes the screening process, the results of the screening process, and identifies the sites that the Alliance concludes are candidates. The report is available at the Web site of the FutureGen Alliance, http://www.FutureGenAlliance.org.

DOE has reviewed the Alliance's selection process for fairness and compliance with the established approach, and DOE is satisfied with the results. Furthermore, having considered all proposed site alternatives in ascertaining which ones were reasonable, DOE has determined that the Alliance's candidate site list is the preliminary list of reasonable alternative sites for detailed analysis in the EIS. The preliminarily identified site alternatives are:

Illinois—Mattoon

The proposed 240-acre Mattoon power plant site is located in east-central Illinois approximately one mile northwest of the city of Mattoon and approximately 150 miles south of Chicago. This Coles County site is currently used as farmland, is flat, and is surrounded by a rural area of low-density population. The Rural King warehouse is located nearby. The site has access to coal delivery via rail and truck, and natural gas can be supplied via connection along rail right-of-way to an existing pipeline located one mile from the site. Cooling water would be gray water from wastewater treatment facilities in Mattoon (five miles southeast of the plant site) and Charleston (13 miles east of the plant site) and would be delivered via proposed new pipelines. Additional water would be supplied from local potable sources or from the Kaskaskia River, which is located about five miles to the north. Lake Shelbyville is more than eight miles to the west. The site would require the construction of two miles of additional transmission line to reach a 138 kV substation southeast of the site or 16 miles of new line to connect to a 345 kV substation south of the site. The site is outside the 500-year floodplain, and while no wetlands were identified onsite, wetlands may be present 0.75 mile downstream of the site and may also exist in the water supply pipeline corridors. CO2 injection is proposed onsite, requiring no offsite pipeline construction. The Mt. Simon saline-bearing sandstone, the injection target at Mattoon, is expected to be between 1800 and 2100 meters (5900 and 6900 ft) deep beneath the site. The Mt. Simon is capped by the Eau Claire Formation, which is a laterally persistent shale expected to be between 100 and 150 meters (330 and 500 ft) thick at Mattoon.

Illinois—Tuscola

The proposed Tuscola site is a 208-acre parcel of land located in east-central Illinois 1.5 miles west of the city of Tuscola and approximately 20 miles north of the Mattoon site. The city of Champaign is located approximately 20 miles to the north, and Decatur is located approximately 35 miles to the west. This Douglas County site is located on flat farmland near an industrial complex, which is immediately west of the site. To the immediate north and south the area is rural with a very low population density. From this site the proposed project would be able to connect to the power line grid via construction of a one-mile connection to reach the 138 kV line to the north, or a 14-mile connection to reach the 345 kV line to the east. The site is situated along the CSX railroad and is about three miles from Interstate Highway 57. Therefore, it has access to coal delivery via rail and truck, and natural gas would be supplied by an existing onsite pipeline. The site is outside the 500-year floodplain, and while no wetlands were identified on the site, wetlands are likely to occur in the proposed CO2 and electricity transmission corridors. Cooling water for the plant would be obtained from the Equistar Chemical Company, which draws water directly from the Kaskaskia River 1.5 miles to the west of the site, and would require the construction of a new pipeline of this length. An additional new pipeline between 9.5 and 11.5 miles in length would also be required to transport CO2 to one of two potential injection fields due south of the plant site. The primary injection site, located 11.5 miles from the plant site, is a 10-acre parcel in a rural, agricultural area. Tuscola's proposed injection target is the Mt. Simon sandstone, a saline-bearing formation expected to be between 1200 and 1800 meters (4000 and 5900 ft) deep at the proposed injection site. The primary cap rock here is the Eau Claire Formation, which is a laterally persistent shale expected to be between 100 and 150 meters (330 and 500 ft) thick at the Tuscola injection site.

Texas—Jewett

Located north of the town of Jewett, in east-central Texas, 65 miles north of Bryan/College Station, and 60 miles east of Waco, the proposed 400-acre Jewett site is also known as the “Heart of Brazos” site. The site is located at the intersection of Leon, Limestone and Freestone counties along U.S. Highway 79 and Farm Road 39 in an area characterized by very gently rolling reclaimed mine lands immediately adjacent to an operating lignite mine and the 1800 MW Jewett power plant. It has access to coal delivery via rail and truck, and natural gas would be supplied by an existing onsite pipeline. Proposed groundwater wells on property immediately west of the site would supply cooling water to the plant via a new pipeline. Transmission infrastructure with excess capacity exists on the site. This site is outside of the 500-year floodplain. There are no jurisdictional wetlands on the site. Lake Limestone and the Navasota River are located about 3.5 miles to the west. It would be necessary to construct 33 miles of new CO2 pipeline, 25 miles of which would be built along an existing gas pipeline right-of-way, to transport CO2 to the storage site, which is located on 1550 acres located northeast of the power plant site. The land use at the sequestration site is pastures, wooded hills and open fields. The proposed target injection formations are the Travis Peak sandstone, and the Rodessa and Pettit limestones, all of which are saline-bearing formations between 1400 and 3600 meters (4600 and 11,800 ft) deep. The primary seal overlying these formations is the 120-meter (400 ft) thick Eagleford Shale.

Texas—Odessa

The proposed Odessa site is located on 600 acres, approximately 15 miles southwest of the city of Odessa in Ector County, Texas. The site is on flat land adjacent to Interstate Highway 20. There is an extensive junk yard of abandoned oil and gas equipment along the site's southern border. The proposed power plant property is entirely above the 500-year floodplain and contains no jurisdictional wetlands. Surrounding land is or was used primarily for oil and gas exploration with some scattered industrial plants (sulfur manufacturing, cement kiln, etc.). The site has access to coal delivery via rail and truck, and natural gas would be supplied by an existing onsite pipeline. Water would be provided via a pipeline to be constructed by the City of Odessa to transport water from the Texland Great Plains Water Supply well located 49 miles to the north, which produces water from the Ogallala aquifer. Alternatively, water may be purchased from the West Texas Water Supply System, located 37 miles west of the site. Two miles of new transmission line would be needed to connect the plant to either a 138 kV line or a 345 kV line. The proposed 6,000-acre injection field is 58 miles south of the Odessa plant site. CO2 would be transported in (and co-mingled in) an existing regional CO2 pipeline network. A short new CO2 pipeline would connect the power plant site to the existing pipeline, and a new four-mile (approximately) pipeline would connect the existing CO2 pipeline to the proposed injection sites. Proposed injection targets for this site are the Queen Formation and the Delaware Mountain Group, both of which are more than 1100 meters (3600 ft) deep beneath grazing lands and scrub lands at the site. The system is capped by layers of anhydrite, dolomitic anhydrite, and anhydrite-halite, which are identified as the upper Queen and the overlying Seven Rivers Formations.

In addition to the site alternatives preliminarily identified in the NOI, the EIS will describe different technologies and strategies for implementing important elements of the FutureGen Project. Critical technology alternatives for various components and subsystems of an integrated gasification combined-cycle power plant exist for the air separation unit (e.g., cryogenic separation versus physical membrane separation), gasifier (various commercial gasifiers with differing feed types, wall structures, and ash/slag recovery and cooler systems), gas turbine (e.g., syngas turbine versus H2 turbine), CO2 capture system (e.g., chemical scrubbers, pressure-swing absorption systems, physical membranes), and synthesis gas as well as turbine combustion gas clean-up systems (e.g., selective catalytic reduction versus selective non-catalytic reduction). The Alliance will provide to DOE a conceptual design that will be analyzed in the EIS for each of the alternative sites. This conceptual design will encompass the power plant and sequestration requirements and attributes (e.g., emissions, effluents, feed stocks, workers) for any of the technology alternatives that may be selected by the Alliance in the final designs. Mitigation will be addressed for the potential impacts of the FutureGen Project at each of the four sites and for the conceptual design and technologies considered.

DOE will also consider a no-action alternative whereby DOE would not fund the FutureGen Project. In the absence of DOE funding, it would be unlikely that the Alliance, or industry in general, would soon undertake the utility-scale integration of CO2 capture and geologic sequestration with a coal-fired power plant. Absent DOE's investment in a utility-scale facility, the development of integrated CO2 capture and sequestration with power plant operations would occur more slowly.

Decision Making Process

No sooner than 30 days following completion of the Final EIS, DOE will announce in a Record of Decision (ROD) either the no-action alternative or those sites, if any, that are acceptable to DOE. If DOE selects the action alternative, the Alliance will subsequently select a host site from among those, if any, listed in the ROD as acceptable to DOE. Following the tentative selection of a host site, the Alliance will conduct extensive site characterization work on the chosen site. Information obtained from the characterization will be reviewed by the DOE and will support the completion of a supplement analysis (see 10 CFR 1021.314) by DOE to determine whether the newly gained information would have altered in a significant way the findings in the EIS. The supplement analysis will be used to determine whether a Supplemental EIS must be prepared.

Preliminary Identification of Environmental Issues

DOE intends to address the issues listed below when considering the potential impacts resulting from the siting, construction and operation of the FutureGen power plant, sequestration field, and associated facilities. This list is neither intended to be all-inclusive nor a predetermined set of potential impacts. DOE invites comments on whether this is the correct list of important issues that should be considered in the EIS. The environmental issues include:

• Air quality impacts: potential for air emissions during construction and operation of the power plant and appurtenant facilities to impact local sensitive receptors, local environmental conditions, and special-use areas, including impacts to smog and haze and impacts from dust and any significant vapor plumes;

• Noise and light impacts: potential impacts from construction, transportation of materials, and facility operations;

• Traffic issues: potential impacts from the construction and operation of the facilities, including changes in local traffic patterns, deterioration of roads, traffic hazards, and traffic controls;

• Floodplains: potential impacts to flood flow resulting from earthen fills, access roads, and dikes that might be needed in a floodplain;

• Wetlands: potential impacts resulting from fill, sediment deposition, vegetation clearing and facility erection that might be needed in a wetland;

• Visual impacts associated with facility structures: views from neighborhoods, impacts to scenic views (e.g., impacts from water vapor plumes, power transmission lines, pipelines), internal and external perception of the community or locality;

• Historic and cultural resources: potential impacts from the site selection, design, construction and operation of the facilities;

• Water quality impacts: potential impacts from water utilization and consumption, plus potential impacts from wastewater discharges;

• Infrastructure and land use impacts: potential environmental and socioeconomic impacts of project site selection, construction, delivery of feed materials, and distribution of products (e.g., power transmission lines, pipelines);

• Marketability of products and market access to feedstocks;

• Solid wastes: pollution prevention plans and waste management strategies, including the handling of ash, slag, water treatment sludge, and hazardous materials;

• Disproportionate impacts on minority and low-income populations;

• Connected actions: potential development of support facilities or supporting infrastructure;

• Ecological impacts: potential on-site and off-site impacts to vegetation, terrestrial wildlife, aquatic wildlife, threatened or endangered species, and ecologically sensitive habitats;

• Geologic impacts: potential impacts from the sequestration of CO2 and other captured gases on underground resources such as potable water supplies, mineral resources, and fossil fuel resources;

• Ground surface impacts from CO2 sequestration: potential impacts from leakage of injected CO2, potential impacts from induced flows of native fluids to the ground surface or near the ground surface, and the potential for induced ground heave and/or microseisms;

• Fate and stability of sequestered CO2 and other captured gases;

• Health and safety issues associated with CO2 capture and sequestration;

• Cumulative effects that result from the incremental impacts of the proposed project when added to other past, present, and reasonably foreseeable future projects;

• Compliance with regulatory requirements and environmental permitting;

• Environmental monitoring plans associated with the power plant and with the CO2 sequestration site;

• Mitigation of identified environmental impacts; and

• Ultimate closure plans for the CO2 sequestration site and reservoirs.

Proposed EIS Schedule

A tentative schedule has been developed for the EIS. The public scoping period will close on September 13, 2006. The Draft EIS is scheduled to be issued for public review and comment in March 2007, followed by a 45-day public comment period and public hearings. The Final EIS is scheduled to be issued in June 2007, followed by the ROD in August 2007.

Public Scoping Process

To ensure that all issues related to this proposed action are addressed, DOE seeks public input to define the scope of the EIS. The public scoping period will begin with publication of the NOI and end on September 13, 2006. Interested government agencies, private-sector organizations and the general public are encouraged to submit comments or suggestions concerning the content of the EIS, issues and impacts to be addressed in the EIS, and alternatives that should be considered. Scoping comments should clearly describe specific issues or topics that the EIS should address to assist DOE in identifying significant issues. Written, e-mailed, faxed, or telephoned comments should be received by September 13, 2006 (see ADDRESSES).

DOE will conduct public scoping meetings at locations, dates and times specified in a future Federal Register notice and in notices published in local newspapers. These notices are scheduled to be published within the next two weeks and will provide the public with at least two weeks notice. Generally, one scoping meeting will be held near each proposed power plant site.

An informal session of the public scoping meetings will begin at approximately 4 p.m., followed by a formal session beginning at approximately 7 p.m. Members of the public who wish to speak at a public scoping meeting should contact Mr. Mark L. McKoy, either by phone, fax, e-mail, or in writing (see ADDRESSES in this Notice). Those who do not arrange in advance to speak may register at a meeting (preferably at the beginning of the meeting) and may speak after previously scheduled speakers. Speakers will be given approximately five minutes to present their comments. Those speakers who want more than five minutes should indicate the length of time desired in their request. Depending on the number of speakers, DOE may need to limit all speakers to five minutes initially and provide second opportunities as time permits. Speakers may also provide written materials to supplement their presentations. Oral and written comments will be given equal consideration. State and local elected officials and tribal leaders may be given priority in the order of those making oral comments.

DOE will begin the meeting with an overview of the proposed FutureGen Project. The meeting will not be conducted as an evidentiary hearing, and speakers will not be cross-examined. However, speakers may be asked questions to help ensure that DOE fully understands the comments or suggestions. A presiding officer will establish the order of speakers and provide any additional procedures necessary to conduct the meeting.

Issued in Washington, DC, this 25th day of July, 2006.
Andrew Lawrence,
Acting Assistant Secretary, Environment, Safety and Health.

[FR Doc. E6-12118 Filed 7-27-06; 8:45 am]

BILLING CODE 6450-01-P